ENVIRONMENTAL PROTECTION AGENCY

[FRL-9269-7]

Settlement Agreement for Recovery of Past Response Costs 10,000 Havana Street Site, Commerce City, Adams County, CO

AGENCY: Environmental Protection Agency.

ACTION: Notice and request for public comment.

SUMMARY: In accordance with the requirements of Section 122(i)(1) of the Comprehensive Environmental Response, Compensation, and Liability Act, as amended (CERCLA), 42 U.S.C. 9622(i)(1), notice is hereby given of a Settlement Agreement under Sections 104, 106(a), 107, and 122 of CERCLA, 42 U.S.C. 9604, 9606(a), 9607, and 9622, between the United States Environmental Protection Agency (EPA) and Cricket Mascarenas (Settling Party) regarding the 10,000 Havana Street Site (Site), located at 10,000 Havana Street, Henderson, Colorado. This Settlement Agreement proposes to compromise a claim the United States has at this Site for Past Response Costs, as those terms are defined in the Settlement Agreement. Under the terms of the Settlement Agreement, EPA and the Settling Party agree that the Settling Party has no ability to pay and the Settling Party agrees not to assert any claims or causes of action against the United States or its contractors or employees with respect to the Site. In exchange, the Settling Party will be granted a covenant not to sue under Section 107(a) of CERCLA, 42 U.S.C. 9607(a), with regard to reimbursement of Past Response Costs.

Opportunity for Comment: For thirty (30) days following the publication of this notice, EPA will consider all comments received and may modify or withdraw its consent to that portion of the Settlement Agreement, if comments received disclose facts or considerations which indicate that the settlement is inappropriate, improper, or inadequate. EPA's response to any comments received will be available for public inspection at the Superfund Record Center, EPA Region 8, 1595 Wynkoop Street, 3rd Floor, in Denver, Colorado.

DATES: Comments must be submitted on or before March 25, 2011.

ADDRESSES: The Settlement Agreement and additional background information relating to the settlement are available for public inspection at the Superfund Records Center, EPA Region 8, 1595 Wynkoop Street, 3rd Floor, in Denver, Colorado. Comments and requests for a copy of the Settlement Agreement should be addressed to Judith Binegar, Enforcement Specialist (8ENF-RC), Technical Enforcement Program, U.S. Environmental Protection Agency, 1595 Wynkoop Street, Denver, Colorado 80202-1129, and should reference the 10,000 Havana Settlement Agreement for the 10,000 Havana Site in Henderson, Adams County, Colorado.

FOR FURTHER INFORMATION CONTACT: Judith Binegar, Enforcement Specialist, (8ENF-RC), Technical Enforcement Program, U.S. Environmental Protection Agency, 1595 Wynkoop Street, Denver, Colorado 80202-1129, (303) 312-6606.

It Is So Agreed:
Andrew M. Gaydosh,
Assistant Regional Administrator, Office of Enforcement, Compliance and Environmental Justice, U.S. Environmental Protection Agency, Region 8.

[FR Doc. 2011-3997 Filed 2-22-11; 8:45 am]

BILLING CODE 6560-50-P